SMALL BUSINESS ADMINISTRATION

Data Collection Available for Public Comments and Recommendations

ACTION: 60 Day Notice and request for comments. 8(a) Business Development Program.

SUMMARY: In accordance with the Paperwork Reduction Act of 1995, this notice announces the Small Business Administration's intentions to request approval on a new and/or currently approved information collection.

DATES: Submit comments on or before May 1, 2012.

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street, 8th Floor, Washington, DC 20416.

FOR FURTHER INFORMATION CONTACT: Sandra Johnston, Program Analyst, mailto:202-205-7507%20%20gail.hepler@sba.gov 202-205-7528 sandra.johnston@sba.gov Curtis B. Rich, Management Analyst, 202-205-7030 curtis.rich@sba.gov

SUPPLEMENTARY INFORMATION: The information collected through these Small Business Administration (SBA) forms is used to receive essential information from the small business applicant and the participating lender to determine eligibility and to properly evaluate and consider the merits of each loan request based on such criteria as character, capacity, credit, collateral, etc. for the purpose of extending credit under the 7(a) program.

Title: “Applications for Business Loans”.

Description of Respondents: Applicants applying for a SBA Loan.

Form Number: 4, 4-I, 4SchA.

Annual Responses: 32,130.

Annual Burden: 214,965.

SUPPLEMENTARY INFORMATION: Small Business Administration (SBA) Form 159 is used by 7(a) lenders, Certified Development companies, and applicants for 7(a), 504 loans and SBA disaster loans. The information collected is used by SBA to establish that there is no appearance of unlawful or unethical activity by agents, loan packagers, and others who receive compensation in exchange for representing the applicants for an SBA business or disaster loan.;

Title: “Compensation Agreement”.

Description of Respondents: 7(a) Participants.

Form Number: 159(7A), 159(504), 159D.

Annual Responses: 9,395.

Annual Burden: 1,401.

ADDRESSES: Send all comments regarding whether this information collection is necessary for the proper performance of the function of the agency, whether the burden estimates are accurate, and if there are ways to minimize the estimated burden and enhance the quality of the collection, to Carol Fendler, Director, License & Program, Office of Investment, Small Business Administration, 409 3rd Street, 6th Floor, Washington, DC 20416.

FOR FURTHER INFORMATION CONTACT: Carol Fendler, License & Program, mailto:202-205-7507%20%20gail.hepler@sba.gov 202-205-7559 carol.fendler@sba.gov Curtis B. Rich, Management Analyst, 202-205-7030 curtis.rich@sba.gov

SUPPLEMENTARY INFORMATION: Form 857 is used by SBA examiners to obtain information about financing provided by small business investment companies (SBICs). This information, which is collected directly from the financed small business, provides independent confirmation of information reported to SBA by SBICs, as well as additional information not reported by SBICs.

Title: “Request for Information Concerning Portfolio Financing”.

Description of Respondents: SBIC Investment Companies.

Form Number: 857.

Annual Responses: 2,160.

Annual Burden: 2,160.

ADDRESSES: Send all comments regarding whether this information collection is necessary for the proper performance of the function of the agency, whether the burden estimates are accurate, and if there are ways to minimize the estimated burden and enhance the quality of the collection, to Gina Beyer, Supervisor Administrative Officer, Office of Disaster Assistance, Small Business Administration, 409 3rd Street SW., Washington, DC 20416.

FOR FURTHER INFORMATION CONTACT: Gina Byer, Supervisor Administrative Officer, mailto: 202-205-6450 gina.beyer@sba.gov Curtis B. Rich, Management Analyst, 202-205-7030 curtis.rich@sba.gov

SUPPLEMENTARY INFORMATION: SBA Form 700 provides a record of interviews for disaster assistance from SBA as result for an Administratively declared disasters, and for some victims in Presidentially declared disasters. Respondents are disaster victims who come to SBA seeking information on possible assistance.

Title: “Disaster Home/Business Loan Inquiry Records”.

Description of Respondents: Business Applications for Pre-Disasters.

Form Number: 700.

Annual Responses: 2,534.

Annual Burden: 634.

ADDRESSES: Send all comments regarding whether this information collection is necessary for the proper performance of the function of the agency, whether the burden estimates are accurate, and if there are ways to minimize the estimated burden and enhance the quality of the collection, to Rachel Newman-Karton, Program Analyst, Office of Small Business Development Centers, Small Business Administration, 409 3rd Street, 6th Floor, Washington, DC 20416.

FOR FURTHER INFORMATION CONTACT: Rachel Newman-Karton, Program Analyst, mailto:202-205-7507%20%20gail.hepler@sba.gov, 202-619-1816; Rachel.newman@sba.gov; Curtis B. Rich, Management Analyst, 202-205-7030 curtis.rich@sba.gov.

SUPPLEMENTARY INFORMATION: This evaluation form is completed by the small business owner or prospective owners who have received counseling from SBA's resource partners, Small Business Development Centers (SBDCs). The information is used to measure the quality and impact of counseling provided by the SBDCs. The SBDCs State Director and the SBA Project Officer review the forms to help determine if the client received satisfactory counseling services.

Title: “SBA Counseling Evaluation”.

Description of Respondents: Small Business Clients.

Form Number: 1419.

Annual Responses: 15,000.

Annual Burden: 2,550.

ADDRESSES: Send all comments regarding whether this information collection is necessary for the proper performance of the function of the agency, whether the burden estimates are accurate, and if there are ways to minimize the estimated burden and enhance the quality of the collection, to Dean Koppel, Assistant Administrator, Office of Policy, Planning, Liaison Small Business Administration, 409 3rd Street SW., Washington, DC 20416.

FOR FURTHER INFORMATION CONTACT: Dean Koppel, Assistant Administer, mailto: 202-205-7322 dean.koppel@sba.gov; Curtis B. Rich, Management Analyst, 202-205-7030, curtis.rich@sba.gov.

SUPPLEMENTARY INFORMATION: This form is used by SBA Government Contracting Area Office for size protest and size determinations, and program offices to assist in determining eligibility for small business programs.

Title: “Information for Small Business Size Determination”.

Description of Respondents: Small Businesses.

Form Number: 355.

Annual Responses: 575.

Annual Burden: 2,300.

ADDRESSES: Send all comments regarding whether this information collection is necessary for the proper performance of the function of the agency, whether the burden estimates are accurate, and if there are ways to minimize the estimated burden and enhance the quality of the collection, to Brenda Washington, Senior Program, Office of HubZone, Small Business Administration, 409 3rd Street SW., Washington, DC 20416.

FOR FURTHER INFORMATION CONTACT: Brenda Washington, Senior Program, mailto: 202-205-7663, brenda.washington@sba.gov; Curtis B. Rich, Management Analyst, 202-205-7030 curtis.rich@sba.gov.

SUPPLEMENTARY INFORMATION: The information is necessary to determine whether HUBZone eligibility requirements are met—the firm is a small business; has a principal office in a HUBZone; 35% of its employees reside in a HUBZone; and, at least 51% owned by US citizens. The information will be submitted by small businesses seeking certifications and recertification as qualified HUBZone businesses.

Title: “HubZone Program Electronic Application, Recertification and Program Examination”.

Description of Respondents: Small Businesses Seeking Certification Program as a qualified HubZone Small Business Concern.

Form Number: 2103.

Annual Responses: 6,377.

Annual Burden: 10,725.

Jacqueline White,
Chief, Administrative Information Branch.

[FR Doc. 2012-5035 Filed 3-1-12; 8:45 am]

BILLING CODE P